INTERNATIONAL TRADE COMMISSION

Investigation No. 731-TA-1574 (Preliminary)]

Superabsorbent Polymers From South Korea

Determination

On the basis of the record ¹ developed in the subject investigation, the United States International Trade Commission (“Commission”) determines, pursuant to the Tariff Act of 1930 (“the Act”), that there is a reasonable indication that an industry in the United States is materially injured by reason of imports of superabsorbent polymers (“SAP”) from South Korea, provided for in subheading 3906.90.50 of the Harmonized Tariff Schedule of the United States, that are alleged to be sold in the United States at less than fair value (“LTFV”).²

¹ The record is defined in § 207.2(f) of the Commission's Rules of Practice and Procedure (19 CFR 207.2(f)).

² 86 FR 6715 (November 30, 2021).

Commencement of Final Phase Investigation

Pursuant to section 207.18 of the Commission's rules, the Commission also gives notice of the commencement of the final phase of its investigation. The Commission will issue a final phase notice of scheduling, which will be published in the Federal Register as provided in section 207.21 of the Commission's rules, upon notice from the U.S. Department of Commerce (“Commerce”) of an affirmative preliminary determination in the investigation under § 733(b) of the Act, or, if the preliminary determination is negative, upon notice of an affirmative final determination in that investigation under § 735(a) of the Act. Parties that filed entries of appearance in the preliminary phase of the investigation need not enter a separate appearance for the final phase of the investigation. Industrial users, and, if the merchandise under investigation is sold at the retail level, representative consumer organizations have the right to appear as parties in Commission antidumping investigations. The Secretary will prepare a public service list containing the names and addresses of all persons, or their representatives, who are parties to the investigation.

Background

On November 2, 2021, the Ad Hoc Coalition of American SAP Producers, whose members include BASF Corporation (“BASF”), Florham Park, New Jersey; Evonik Superabsorber LLC (“Evonik”), Greensboro, North Carolina; and Nippon Shokubai America Industries, Inc. (“NSAI”), Pasadena, Texas, filed a petition with the Commission and Commerce, alleging that an industry in the United States is materially injured or threatened with material injury by reason of LTFV imports of superabsorbent polymers from South Korea. Accordingly, effective November 2, 2021, the Commission instituted antidumping duty investigation No. 731-TA-1574 (Preliminary).

Notice of the institution of the Commission's investigation and of a public conference to be held in connection therewith was given by posting copies of the notice in the Office of the Secretary, U.S. International Trade Commission, Washington, DC, and by publishing the notice in the Federal Register of November 10, 2021 (86 FR 52565). In light of the restrictions on access to the Commission building due to the COVID-19 pandemic, the Commission conducted its conference through written testimony and video conference. All persons who requested the opportunity were permitted to participate.

The Commission made this determination pursuant to § 733(a) of the Act (19 U.S.C. 1673b(a)). It completed and filed its determination in this investigation on December 17, 2021. The views of the Commission are contained in USITC Publication 5273 (December 2021), entitled Superabsorbent Polymers from South Korea: Investigation No. 731-TA-1574 (Preliminary).

By order of the Commission.
Issued: December 17, 2021.
Lisa Barton,
Secretary to the Commission.

[FR Doc. 2021-27801 Filed 12-22-21; 8:45 am]

BILLING CODE 7020-02-P